DEPARTMENT OF TRANSPORTATION

Federal Aviation Administration

Notice of Intent To Request Renewal From the Office of Management and Budget (OMB) of Nine Current Public Collections of Information

AGENCY: Federal Aviation Administration (FAA), DOT.

ACTION: Notice.

SUMMARY: In compliance with the Paperwork Reduction Act (44 U.S.C. 3501 et seq.), the FAA invites public comment on nine currently approved public information collections which will be submitted to OMB for renewal.

DATES: Comments must be received on or before September 26, 2005.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0007, Flight Engineers and Flight Navigators. 49 U.S.C. 44902(a), 44702(a)(2), and 44707(1) authorize issuance of airman certificates and provide for examination and rating of flying schools. FAR 63 prescribes requirements for flight navigator certification and training course requirements for these airmen. Information collected is used to determine certification eligibility. The current estimated annual reporting burden is 1,416 hours.

2. 2120-0008, Operating Requirements: Domestic, Flag and Supplemental Operation—Part 121. 14 CFR Part 121 prescribes the requirements governing air carrier operations. The information collected is used to determine air operators' compliance with the minimum safety standards set out in the regulation and the applicant's eligibility for air operations certification. The current estimated annual reporting burden is 1,273,247 hours.

3. 2120-0014, Procedures for Non-Federal Navigation Facilities. The non-Federal navigation facilities are electrical/electronic aids to air navigation which are purchased, installed, operated, and maintained by an entity other than the FAA and are available for use by the flying public. These aids may be located at unattended remote sites or airport terminals. The information kept are used by the FAA as proof that the facility is maintained within certain specified tolerances. The current estimated annual reporting burden is 33,116 hours.

4. 2120-0535, Anti-Drug Program for Personnel Engaged in Specified Aviation Activities. 14 CFR Part 121, Appendices I and J, require specified aviation employers to implement FAA-approved antidrug and alcohol misuse prevention programs and conduct testing of safety-sensitive employees. To monitor compliance, institute program improvements, and anticipate program problem areas, the FAA receives reports from the aviation industry. The current estimated annual reporting burden is 26,373 hours.

5. 2120-0600, Training and Qualification Requirements for Check Airmen and Flight Instructors. The rule allows some experienced pilots who would otherwise qualify as flight instructors or check airmen, but who are not medically eligible to hold the requisite medical certificate, to perform flight instructor or check airmen functions in a simulator. The current estimated annual reporting burden is 13 hours.

6. 2120-0604, Aviation Medical Examiner Program. This collection of information is necessary in order to determine applicants' professional and personal qualifications for certification as an Aviation Medical Examiner (AME). The information is used to develop the AME directories used by airmen who must undergo periodic examinations by AMEs. The current estimated annual reporting burden in 225 hours.

7. 2120-0682, Certification of Repair Stations, Part 145 of Title 14, CFR. Information is collected from applicants who wish to obtain repair station certification. Applicants must submit FAA form 8310-3 to the appropriate FAA flight standards district office for review. If the application is satisfactory, an onsite inspection is conducted. When all the requirements have been met, an air agency certificate and repair station operations specifications with appropriate ratings and limitations are issued. The current estimated annual reporting burden is 270,239 hours.

8. 2120-0702, Use of Certain Personal Oxygen Concentrator (POC) Devices on Board Aircraft. The rule requires passengers who intend to use an approved POC to present a physician statement before boarding. The flight crew must then inform the pilot-in-command that a POC is on board. The current estimated annual reporting burden is 172,694 hours.

9. 2120-0703, Responsibility for Operational Control During Part 135 Operations. As part of our safety oversight responsibilities, the FAA has developed questions concerning elements of the operational control system employed by certain Part 135 operators. The current estimated annual reporting burden is 262 hours.

Issued in Washington, DC, on July 20, 2005.
Judith D. Street,
FAA Information Systems and Technology Services Staff, ABA-20.

[FR Doc. 05-14761 Filed 7-26-05; 8:45 am]

BILLING CODE 4910-13-M